SMALL BUSINESS ADMINISTRATION

[Disaster Declaration #11605 and #11606]

New Hampshire Disaster Number NH-00010

AGENCY: U.S. Small Business Administration.

ACTION: Amendment 1.

SUMMARY: This is an amendment of the Presidential declaration of a major disaster for Public Assistance Only for the State of New Hampshire ( FEMA-1812-DR) , dated 01/02/2009.

Incident: Severe Winter Storm.

Incident Period: 12/11/2008 through 12/23/2008.

Effective Date: 01/23/2009.

Physical Loan Application Deadline Date: 03/03/2009.

Economic Injury (EIDL) Loan Application Deadline Date: 10/02/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of NEW HAMPSHIRE, dated 01/02/2009, is hereby amended to establish the incident period for this disaster as beginning 12/11/2008 and continuing through 12/23/2008.

All other information in the original declaration remains unchanged.

(Catalog of Federal Domestic Assistance Numbers 59002 and 59008)

Herbert L. Mitchell,
Associate Administrator for Disaster Assistance.

[FR Doc. E9-2246 Filed 2-2-09; 8:45 am]

BILLING CODE 8025-01-P